DEPARTMENT OF TRANSPORTATION

Maritime Administration

[Docket No. MARAD-2019-0184]

Request for Comments on the Approval of a Previously Approved Information Collection: United States Merchant Marine Academy (USMMA) Alumni Survey

AGENCY: Maritime Administration, DOT.

ACTION: Notice and request for comments.

SUMMARY: The Maritime Administration (MARAD) invites public comments on our intention to request the Office of Management and Budget (OMB) approval to renew an information collection. The purpose of the collection is to conduct alumni survey to document student perceptions about education received at the U.S. Merchant Marine Academy (USMMA). The results from the survey will not be used for any type of forecasting or projecting. The results will be tabulated and documented as indirect evidence for accreditation purposes. We are required to publish this notice in the Federal Register by the Paperwork Reduction Act of 1995.

DATES: Comments must be submitted on or before January 3, 2020.

ADDRESSES: You may submit comments [identified by Docket No. MARAD-2019-0028] through one of the following methods:

• Federal eRulemaking Portal: http://www.regulations.gov. Search using the above DOT docket number and follow the online instructions for submitting comments.

• Fax: 1-202-493-2251.

Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Dr. John R. Ballard, (516) 726-5833, U.S. Merchant Marine Academy, Kings Point, NY 11024.

SUPPLEMENTARY INFORMATION:

Title: U.S. Merchant Marine Academy Alumni Survey.

OMB Control Number: 2133-0542.

Type of Request: Renewal of a previously approved collection.

Abstract: The United States Merchant Marine Academy is an accredited federal service academy that confers BS and MS degrees. The Academy is expected to assess its educational outcomes and report those findings to its Regional Accreditation authority in order to maintain the institution's degree granting status. Periodic survey of alumni cohorts and analysis of the data gathered is a routine higher education assessment practice in the United States.

Respondents: Respondents are graduates of the U.S. Merchant Marine Academy.

Affected Public: U.S. Merchant Marine Academy Graduates.

Estimated Number of Respondents: 600.

Estimated Number of Responses: 600.

Estimated Hours per Response: .25 Hrs.

Annual Estimated Total Annual Burden Hours: 150.

Frequency of Response: Annually.

(Authority: The Paperwork Reduction Act of 1995; 44 U.S.C. Chapter 35, as amended; and 49 CFR 1.93.)

* * * * *

Dated: October 30, 2019.
By Order of the Maritime Administrator.
T. Mitchell Hudson, Jr.,
Secretary, Maritime Administration.

[FR Doc. 2019-24022 Filed 11-1-19; 8:45 am]

BILLING CODE 4910-81-P